OFFICE OF PERSONNEL MANAGEMENT

Submission for OMB Review; Comment Request for a New Information Collection: OPM Form 1655 and OPM Form 1655-A

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for a new information collection. OPM 1655, Application for Senior Administrative Law Judge, and OPM 1655-A, Geographic Preference Statement for Senior Administrative Law Judge Applicant, are used by retired Administrative Law Judges seeking reemployment on a temporary and intermittent basis to complete hearings of one or more specified case(s) in accordance with the Administrative Procedures Act of 1946.

Approximately 150 OPM 1655s will be processed annually. Each form takes approximately 30-45 minutes to complete. The annual estimated burden is 94 hours. Approximately 200 OPM 1655-As will be processed annually. Each form takes approximately 5-25 minutes to complete. The annual estimated burden is 67 hours.

OPM received one comment and took no action because the comment was not relevant to the proposed information collection under 5 CFR 1320.8(d)(1).

For copies of this proposal, contact Mary Beth Smith-Toomey on (202) 606-8358, Fax (202) 418-3251 or e-mail to mbtoomey@opm.gov. Please include a mailing address with your request.

DATES: Comments on this proposal should be received within 30 calendar days from the date of this publication.

ADDRESSES: Send or deliver comments to—

Juanita H. Love, Program Manager, Administrative Law Judge Program, Human Capital Leadership & Merit System, Accountability Division, U.S. Office of Personnel Management, 1900 E Street, NW., Room 7425, Washington, DC 20415; and

Brenda Aguilar, OPM Desk Officer, Office of Information & Regulatory Affairs, Office of Management and Budget, New Executive Office Building, Room 10235, Washington, DC 20503.

For Information Regarding Administrative Coordination Contact: Karyn D. Lusby, Program Analyst, Administrative Law Judge Program, Human Capital Leadership & Merit System, Accountability Division, U.S. Office of Personnel Management, 1900 E Street, NW., Room 7425, Washington, DC 20415, karyn.lusby@opm.gov.

U.S. Office of Personnel Management
Linda M. Springer,
Director.

[FR Doc. E7-19043 Filed 9-25-07; 8:45 am]

BILLING CODE 6325-43-P